NUCLEAR REGULATORY COMMISSION

Advisory Committee on Reactor Safeguards; Meeting of the Ad Hoc Subcommittee; Revised

The ACRS Ad Hoc Subcommittee meeting scheduled for October 10-13, 2000 has been extended to Saturday, October 14, 2000, Room T-2B3, 11545 Rockville Pike, Rockville, Maryland, 8:30 a.m. until 12 Noon to discuss proposed comments and recommendations on the technical merits of the Differing Professional Opinion Issues associated with steam generator tube integrity. Notice of this meeting was previously published in the Federal Register on Wednesday, September 20, 2000 (65 FR 56945). All other items pertaining to this meeting remains the same as previously published.

For further information contact either Mr. Sam Duraiswamy (telephone 301-415-7364) or Ms. Undine Shoop (telephone 301-415-8086) between 7:30 a.m. and 4:15 p.m. (EDT).

Dated: September 28, 2000.
James E. Lyons,
Associate Director for Technical Support, ACRS/ACNW.

[FR Doc. 00-25459 Filed 10-3-00; 8:45 am]

BILLING CODE 7590-01-P